DEPARTMENT OF COMMERCE

National Institute of Standards and Technology

Notice of Jointly Owned Invention Available for Licensing

AGENCY: National Institute of Standards and Technology, Commerce.

ACTION: Notice of jointly owned invention available for licensing.

SUMMARY: The invention listed below is jointly owned by the U.S. Government, as represented by the Department of Commerce, and the University of Maryland. The Department of Commerce's interest in the invention is available for licensing in accordance with 35 U.S.C. 207 and 37 CFR part 404 to achieve expeditious commercialization of results of federally funded research and development.

FOR FURTHER INFORMATION CONTACT: Technical and licensing information on this invention may be obtained by writing to: National Institute of Standards and Technology, Office of Technology Partnerships, Attn: Mary Clague, Building 820, Room 213, Gaithersburg, MD 20899. Information is also available via telephone: 301-975-4188 , fax 301-869-2751, or e-mail: mary.clague@nist.gov. Any request for information should include the NIST Docket number and title for the invention as indicated below.

SUPPLEMENTARY INFORMATION: NIST may enter into a Cooperative Research and Development Agreement (“CRADA”) with the licensee to perform further research on the invention for purposes of commercialization. The invention available for licensing is:

NIST Docket Number: 01-004.

Title: Method For Producing Metal Particles by Spray Pyrolysis Using a Co-solvent and Apparatus Therefore.

Abstract: Gas-to-particle conversion processes have been used to produce various micro and nanoscale metal powders because of their convenient process characteristics. Recently, hydrogen gas approaches for reducing metal oxides made from metal precursor aerosols in gas-to-particle conversion processes were developed by several research groups. However, aerosol decomposition reactions may be very dangerous at high temperatures due to the explosive potential of hydrogen at high concentrations in the presence of oxygen. This invention is a novel process based on the use of a co-solvent for preparing pure metal nanoparticles under safe conditions in a high-temperature aerosol decomposition reactor. The resulting copper nanoparticles prepared from copper nitrate using a nitrogen carrier gas at 600° C with a 3.3 second resident time are pure. X-ray diffraction is used for measuring particle composition and a transmission electron microscope (TEM) is used for imaging to determine particle morphology.

Dated: March 1, 2004.
Hratch G. Semerjian,
Deputy Director.

[FR Doc. 04-5166 Filed 3-5-04; 8:45 am]

BILLING CODE 3510-13-P